DEPARTMENT OF COMMERCE

National Oceanic and Atmospheric Administration

[I.D. 022703B]

Endangered Species; File No. 1420

AGENCY: National Marine Fisheries Service (NMFS), National Oceanic and Atmospheric Administration (NOAA), Commerce.

ACTION: Receipt of application.

SUMMARY: Notice is hereby given that Douglas Peterson, Ph.D., Warnell School of Forest Resources (Fisheries Division), University of Georgia, Athens, Georgia 30602, has applied in due form for a permit to take shortnose sturgeon, Acipenser brevirostrum for purposes of scientific research.

DATES: Written or telefaxed comments must be received on or before April 10, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Jennifer Jefferies or Gene Nitta, (301)713-2289.

SUPPLEMENTARY INFORMATION: The subject permit is requested under the authority of the Endangered Species Act of 1973, as amended (ESA; 16 U.S.C. 1531 et seq.), the regulations governing the taking, importing, and exporting of endangered and threatened species (50 CFR 222-226).

Dr. Peterson seeks authorization to sample and track shortnose sturgeon, Acipenser brevirostrum, in the Altamaha River in Georgia. Annually, up to 200 fish will be taken via gill and trammel netting, measured, weighed, PIT and Carlin tagged, tissue and pectoral fin ray samples will be taken, and the fish subsequently released.

Additionally, up to 10 of the total fish sampled annually will also receive an internal radio-sonic transmitter. Dr. Peterson also proposes to deploy artificial substrate samplers from February to mid-March to collect up to 100 shortnose sturgeon eggs annually. The samplers will be checked and reset daily during the spawning season and the eggs collected and preserved for subsequent laboratory analysis to determine percent viability. Dr. Peterson seeks authorization to conduct the research for five years.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: February 28, 2003.
Stephen L. Leathery,
Chief, Permits, Conservation and Education Division, Office of Protected Resources, National Marine Fisheries Service.

[FR Doc. 03-5645 Filed 3-10-03; 8:45 am]

BILLING CODE 3510-22-S